DEPARTMENT OF ENERGY

Federal Energy Regulatory Commission

Combined Notice of Filings #1

Take notice that the Commission received the following electric rate filings:

Docket Numbers: ER12-1933-010.

Applicants: Interstate Power and Light Company.

Description: Notification of Change in Status of Interstate Power and Light Company.

Filed Date: 4/19/19.

Accession Number: 20190419-5188.

Comments Due: 5 p.m. ET 5/10/19.

Docket Numbers: ER18-2054-001.

Applicants: Midcontinent Independent System Operator, Inc.

Description: Compliance filing: 2019-04-23_Attachment X Compliance relative to EL18-17-000 to be effective 7/24/2018.

Filed Date: 4/23/19.

Accession Number: 20190423-5115.

Comments Due: 5 p.m. ET 5/14/19.

Docket Numbers: ER18-2318-002.

Applicants: Southwest Power Pool, Inc.

Description: Compliance filing: Compliance Filing in ER18-2318—Order No. 844 Compliance to be effective 1/1/2019.

Filed Date: 4/22/19.

Accession Number: 20190422-5158.

Comments Due: 5 p.m. ET 5/13/19.

Docket Numbers: ER19-1639-000.

Applicants: South Peak Wind LLC.

Description: Baseline eTariff Filing: Market-based rate application to be effective 6/21/2019.

Filed Date: 4/22/19.

Accession Number: 20190422-5155.

Comments Due: 5 p.m. ET 5/13/19.

Docket Numbers: ER19-1641-000.

Applicants: California Independent System Operator Corporation.

Description: § 205(d) Rate Filing: 2019-04-22 RMR CPM Enhancements Amendment to be effective 7/22/2019.

Filed Date: 4/23/19.

Accession Number: 20190423-5000.

Comments Due: 5 p.m. ET 5/14/19.

Docket Numbers: ER19-1642-000.

Applicants: Southern California Edison Company.

Description: § 205(d) Rate Filing: Letter Agreement with Quarantina Energy Storage, LLC to be effective 4/12/2019.

Filed Date: 4/23/19.

Accession Number: 20190423-5001.

Comments Due: 5 p.m. ET 5/14/19.

Docket Numbers: ER19-1643-000.

Applicants: Hopewell Power Generation, LLC.

Description: Baseline eTariff Filing: Baseline New Reactive Service Tariff to be effective 4/24/2019.

Filed Date: 4/23/19.

Accession Number: 20190423-5002.

Comments Due: 5 p.m. ET 5/14/19.

Docket Numbers: ER19-1644-000.

Applicants: Richland-Stryker Generation LLC.

Description: Baseline eTariff Filing: Baseline New Reactive Service Tariff to be effective 4/24/2019.

Filed Date: 4/23/19.

Accession Number: 20190423-5004.

Comments Due: 5 p.m. ET 5/14/19.

Docket Numbers: ER19-1645-000.

Applicants: DTE Electric Company.

Description: Notice of Cancellation of Distribution Interconnection Agreement (Rate Schedule No. 38) of DTE Electric Company.

Filed Date: 4/19/19.

Accession Number: 20190419-5185.

Comments Due: 5 p.m. ET 5/10/19.

Docket Numbers: ER19-1646-000.

Applicants: Performance Materials NA, Inc.

Description: Baseline eTariff Filing: Petition for Approval of Initial Market-Based Rate Tariff to be effective 6/23/2019.

Filed Date: 4/23/19.

Accession Number: 20190423-5044.

Comments Due: 5 p.m. ET 5/14/19.

Docket Numbers: ER19-1647-000.

Applicants: AM Commodities Corporation.

Description: Tariff Cancellation: Notice of Cancellation of Market-Based Rate Tariff to be effective 6/23/2019.

Filed Date: 4/23/19.

Accession Number: 20190423-5065.

Comments Due: 5 p.m. ET 5/14/19.

Docket Numbers: ER19-1648-000.

Applicants: Southwest Power Pool, Inc.

Description: § 205(d) Rate Filing: Empire District Electric Company Formula Rate Revisions to be effective 1/1/2019.

Filed Date: 4/23/19.

Accession Number: 20190423-5097.

Comments Due: 5 p.m. ET 5/14/19.

Docket Numbers: ER19-1649-000.

Applicants: California Power Exchange Corporation.

Description: Petition to Extend Existing Wind-Up Charge Settlement of California Power Exchange Corporation.

Filed Date: 4/22/19.

Accession Number: 20190422-5226.

Comments Due: 5 p.m. ET 5/13/19.

Docket Numbers: ER19-1650-000.

Applicants: PJM Interconnection, L.L.C.

Description: § 205(d) Rate Filing: Amendment to ISA, SA No. 4512; Queue No. AB1-128 to be effective 7/18/2016.

Filed Date: 4/23/19.

Accession Number: 20190423-5116.

Comments Due: 5 p.m. ET 5/14/19.

Take notice that the Commission received the following electric securities filings:

Docket Numbers: ES19-23-000.

Applicants: Upper Michigan Energy Resources Corporation.

Description: Application under Section 204 of the Federal Power Act for Authorization to Issue Securities of Upper Michigan Energy Resources Corporation.

Filed Date: 4/22/19.

Accession Number: 20190422-5220.

Comments Due: 5 p.m. ET 5/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2019.
Nathaniel J. Davis, Sr.,
Deputy Secretary.

[FR Doc. 2019-08551 Filed 4-26-19; 8:45 am]

BILLING CODE 6717-01-P